NATIONAL COUNCIL ON DISABILITY

Sunshine Act Meetings

TIME AND DATES: The Members of the National Council on Disability (NCD) will hold a quarterly meeting on Thursday, August 24, from 9:00 a.m.-4:15 p.m., Eastern Time, in Washington, DC.

PLACE: This meeting will occur in Washington, DC, at the Access Board Conference Room, 1331 F Street NW., Suite 800, Washington, DC 20004. Interested parties may join the meeting in person at the meeting location or may join by phone in a listening-only capacity (other than the period allotted for public comment noted below) using the following call-in information: Teleconference number: 1-888-452-4030; Conference ID: 1255123; Conference Title: NCD Meeting; Host Name: Clyde Terry.

MATTERS TO BE CONSIDERED: The Council will receive agency updates on policy projects, finance, governance, and other business. The Council will vote on final drafts of the Individuals with Disabilities Education Act (IDEA) report series; the foreign policy and disability report; and the guardianship report. The Council will also receive its annual ethics training. The Council will receive a panel presentation on promising practices regarding charter schools and vouchers and later receive public comment on charter schools and vouchers in the context of IDEA. The Council will conclude its work by discussing the draft Agency Reform Plan (pursuant to Executive Order 13781) and NCD's draft FY18-FY22 Strategic Plan and then receiving comments about those documents.

AGENDA: The times provided below are approximations for when each agenda item is anticipated to be discussed (all times Eastern):

Thursday, August 24

9:00 a.m.-9:30 a.m.—Welcome and Introductions

9:30-10:45 a.m.—NCD Business Meeting, including votes on: IDEA Report Series; Foreign Policy and Disability Report; Guardianship Report

10:45-11:00 a.m.—Break

11:00 a.m.-12:00 p.m.—Ethics Training

12:00-1:00 p.m.—Lunch on Your Own

1:00-2:00 p.m.—Charter Schools & Vouchers Part 2: Promising Practices

2:00-2:30 p.m.—Town Hall to Receive Comments on Charter Schools & Vouchers (Commenters will be limited to three minutes each. The thoughts shared during this town hall are intended to help shape future work in this area.)

2:30-2:45 p.m.—Break

2:45-3:45 p.m.—Council Discussion of Agency Reform Plan and NCD Strategic Plan

3:45-4:15 p.m.—Public Comment Period on Agency Reform Plan and NCD Strategic Plan

4:15 p.m.-Adjournment

PUBLIC COMMENT: To better facilitate NCD's public comment, any individual interested in providing public comment is asked to register his or her intent to provide comment in advance by sending an email to PublicComment@ncd.gov with the subject line “Public Comment” with your name, organization, state, and topic of comment included in the body of your email. Full-length written public comments may also be sent to that email address. All emails to register for public comment at the quarterly meeting must be received by Wednesday, August 23, 2017. Priority will be given to those individuals who are in-person to provide their comments during the town hall portions of the agenda. Those commenters on the phone will be called on per the list of those registered via email. Due to time constraints, NCD asks all commenters to limit their comments to three minutes. Comments received at the August quarterly meeting will be limited to those regarding charter schools and vouchers in the context of IDEA; and later to the draft agency reform plan and agency strategic plan.

CONTACT PERSON: Anne Sommers, NCD, 1331 F Street NW., Suite 850, Washington, DC 20004; 202-272-2004 (V), 202-272-2074 (TTY).

ACCOMMODATIONS: A CART streamtext link has been arranged for this meeting. The web link to access CART on Thursday, August 24, 2017 is: https://www.streamtext.net/player?event=NCD.

Those who plan to attend the meeting in-person and require accommodations should notify NCD as soon as possible to allow time to make arrangements. To help reduce exposure to fragrances for those with multiple chemical sensitivities, NCD requests that all those attending the meeting in person refrain from wearing scented personal care products such as perfumes, hairsprays, and deodorants.

Dated: August 8, 2017.
Sharon M. Lisa Grubb,
Director of Operations and Administration.

[FR Doc. 2017-16970 Filed 8-8-17; 11:15 am]

BILLING CODE 8421-03-P